DEPARTMENT OF ENERGY

Federal Energy Regulatory Commission

[Project No. 2310-113]

Pacific Gas & Electric Company; Notice of Availability of Environmental Assessment

May 23, 2001.

An environmental assessment (EA) is available for public review. The EA was prepared for Pacific Gas & Electric's (licensee) application for the Drum-Spaulding Project to lower the spillway of the Rock Creek Dam by 2.5 feet to accommodate a Probable Maximum Flood event of 2,200 cubic feet per second.

In summary, the EA examines the environmental impacts of: (1) licensee's proposed action: lowering the Rock Creek Dam spillway 2.5 feet; and (2) no-action. These alternatives are described in detail in the EA.

The EA concludes that the licensee's proposal to lower the Rock Creek Dam spillway 2.5 feet is the preferred alternative. The EA concludes that implementation of this alternative would not constitute a major federal action significantly affecting the quality of the human environment.

This EA was written by staff in the Office of Energy Projects (OEP). Copies of the EA can be obtained by contacting the Commission's Public Reference Room at (202) 208-1371.

David P. Boergers,
Secretary.

[FR Doc. 01-13393 Filed 5-25-01; 8:45 am]

BILLING CODE 6717-01-M